DEPARTMENT OF COMMERCE

International Trade Administration

[A-588-815]

Gray Portland Cement and Clinker From Japan: Final Results of the Expedited Third Sunset Review of the Antidumping Duty Order

AGENCY: Import Administration, International Trade Administration, Department of Commerce.

SUMMARY: The Department has conducted an expedited (120-day) third sunset review of the antidumping duty order on gray portland cement and clinker from Japan. As a result of this third sunset review, the Department finds that revocation of the antidumping duty order would be likely to lead to continuation or recurrence of dumping as indicated in the “Final Results of Review” section of this notice.

DATES: Effective Date: August 31, 2011.

FOR FURTHER INFORMATION CONTACT: Catherine Cartsos or Minoo Hatten, AD/CVD Operations, Office 5, Import Administration, International Trade Administration, U.S. Department of Commerce, 14th Street and Constitution Avenue, NW., Washington, DC 20230; telephone: (202) 482-1757 or (202) 482-1690, respectively.

SUPPLEMENTARY INFORMATION:

Background

On May 2, 2011, the Department published the notice of initiation of the third sunset review of the antidumping duty order on gray portland cement and clinker from Japan ¹ pursuant to section 751(c) of the Tariff Act of 1930, as amended (the Act). See Initiation of Five-Year (“Sunset”) Review, 76 FR 24459 (May 2, 2011) (Notice of Initiation).

¹ See Antidumping Duty Order and Amendment to Final Determination of Sales at Less Than Fair Value: Gray Portland Cement and Clinker From Japan, 56 FR 21658 (May 10, 1991), and Amended Final Determination of Sales at Less Than Fair Value and Antidumping Order: Gray Portland Cement and Clinker From Japan, 60 FR 39150 (August 1, 1995).

The Department received notice of intent to participate in this third sunset review from the domestic interested party, Committee for Fairly Traded Japanese Cement (domestic interested party), within the 15-day period specified in 19 CFR 351.218(d)(1)(i). The domestic interested party claimed interested-party status under section 771(9)(E) of the Act as a trade or business association, a majority of whose members manufacture, produce or wholesale a domestic like product in the United States.

The Department received a complete substantive response to the Notice of Initiation from the domestic interested party within the 30-day period specified in 19 CFR 351.218(d)(3)(i). The Department received no responses from any respondent interested parties. In accordance with section 751(c)(3)(B) of the Act and 19 CFR 351.218(e)(1)(ii)(C)(2), the Department is conducting an expedited (120-day) third sunset review of the antidumping duty order on gray portland cement and clinker from Japan.

Scope of the Order

The products covered by the order are cement and cement clinker from Japan. Cement is a hydraulic cement and the primary component of concrete. Cement clinker, an intermediate material produced when manufacturing cement, has no use other than grinding into finished cement. Microfine cement was specifically excluded from the antidumping duty order. Cement is currently classifiable under the Harmonized Tariff Schedule (HTS) item number 2523.29 and cement clinker is currently classifiable under HTS item number 2523.10. Cement has also been entered under HTS item number 2523.90 as “other hydraulic cements.” The HTS item numbers are provided for convenience and customs purposes. The written product description remains dispositive as to the scope of the product covered by the order.²

² The Department has made two scope rulings regarding subject merchandise. See Scope Rulings, 57 FR 19602 (May 7, 1992) (classes G and H of oil well cement are within the scope of the order), and Scope Rulings, 58 FR 27542 (May 10, 1993) (“Nittetsu Super Fine” cement is not within the scope of the order).

Analysis of Comments Received

All issues raised in this review are addressed in the “Issues and Decision Memorandum for the Final Results of the Expedited Third Sunset Review of the Antidumping Duty Order on Gray Portland Cement and Clinker from Japan” from Christian Marsh, Deputy Assistant Secretary for Antidumping and Countervailing Duty Operations, to Ronald K. Lorentzen, Deputy Assistant Secretary for Import Administration, dated concurrently with this notice (I&D Memo), which is hereby adopted by this notice. The issues discussed in the I&D Memo include the likelihood of continuation or recurrence of dumping and the magnitude of the dumping margins likely to prevail if the order was revoked. Parties can find a complete discussion of all issues raised in this review and the corresponding recommendations in this public memorandum which is on file in the Central Records Unit, room 7046 of the main Department of Commerce building.

In addition, a complete version of the I&D Memo can be accessed directly on the Web at http://ia.ita.doc.gov/frn. The paper copy and electronic version of the I&D Memo are identical in content.

Final Results of Review

The Department determines that revocation of the antidumping duty order on gray portland cement and clinker from Japan would be likely to lead to continuation or recurrence of dumping at the following weighted-average dumping margins:

—
Company | Weighted- Average dumping margin (percent)
Onoda Cement Company, Ltd | 70.52
Nihon Cement Company, Ltd | 69.89
All Other Manufacturers/Producers/Exporters | 70.23

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: August 18, 2011.
Christian Marsh,
Acting Deputy Assistant Secretary for Import Administration.

[FR Doc. 2011-22334 Filed 8-30-11; 8:45 am]

BILLING CODE 3510-DS-P